ENVIRONMENTAL PROTECTION AGENCY

[FRL-9990-01-R6]

Clean Air Act Operating Permit Program; Petitions for Objection to State Operating Permit for Oxbow Calcining, LLC, Jefferson County, Texas

AGENCY: Environmental Protection Agency (EPA).

ACTION: Notice of final Order on Petition for objection to Clean Air Act title V operating permit.

SUMMARY: The Environmental Protection Agency (EPA) Administrator signed an Order dated June 14, 2022, granting a Petition dated October 28, 2020, from the Environmental Integrity Project, Port Arthur Community Action Network, Lone Star Legal Aid, and the Lone Star Chapter of the Sierra Club. The Petition requested that the EPA object to a Clean Air Act (CAA) title V operating permit issued by the Texas Commission on Environmental Quality (TCEQ) to Oxbow Calcining located in Jefferson County, Texas.

ADDRESSES: The EPA requests that you contact the individual listed in the FOR FURTHER INFORMATION CONTACT section to view copies of the final Order, the Petition, and other supporting information. Out of an abundance of caution for members of the public and our staff, the EPA Region 6 office may be closed to the public to reduce the risk of transmitting COVID-19. Please call or email the contact listed below if you need alternative access to the final Order and Petition, which are available electronically at: https://www.epa.gov/title-v-operating-permits/title-v-petition-database.

FOR FURTHER INFORMATION CONTACT: Aimee Wilson, EPA Region 6 Office, Air Permits Section, (214) 665-7596, wilson.aimee@epa.gov.

SUPPLEMENTARY INFORMATION: The CAA affords the EPA a 45-day period to review and object to, as appropriate, operating permits proposed by state permitting authorities under title V of the CAA. Section 505(b)(2) of the CAA authorizes any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or unless the grounds for the issue arose after this period.

The EPA received the Petition from the Environmental Integrity Project, Port Arthur Community Action Network, Lone Star Legal Aid, and the Lone Star Chapter of the Sierra Club dated October 28, 2020, requesting that the EPA object to the issuance of operating permit no. O1493, issued by TCEQ to Oxbow Calcining in Jefferson County, Texas. The Petition claims the proposed permit fails to include monitoring and recordkeeping provisions sufficient to ensure compliance with Sulfur Dioxide National Ambient Air Quality Standards and fails to establish monitoring, testing, and recordkeeping provisions that assure compliance with Lead and Volatile Organic Compound limits from kiln stacks 2, 3, 4, and 5 in NSR Permit No. 45622.

On June 14, 2022, the EPA Administrator issued an Order granting in part and denying in part the Petition. The Order explains the basis for the EPA's decision.

Dated: July 8, 2022.
Dzung Ngo Kidd,
Acting Director, Air and Radiation Division, Region 6.

[FR Doc. 2022-14947 Filed 7-12-22; 8:45 am]

BILLING CODE 6560-50-P